DEPARTMENT OF THE INTERIOR

Bureau of Land Management

[ID-912-1020-PH 24 1A]

Idaho Resource Advisory Councils: Notice of Intent To Establish and Call for Nominations

AGENCY: Bureau of Land Management, Interior.

ACTION: Notice of intent to establish and call for nominations for the four Idaho BLM Resource Advisory Councils.

SUMMARY: BLM is publishing this notice in accordance with the Federal Land Policy and Management Act (FLPMA) and section 9(a)(2) of the Federal Advisory Committee Act (FACA). The Bureau of Land Management (BLM) gives notice that the Secretary of the Interior is establishing four Resource Advisory Councils (Council) in Idaho to represent the four redefined BLM Districts in Idaho. This notice is also to solicit public nominations for each of the four Idaho BLM Resource Advisory Councils (RACs) to replace/renew members whose terms expire this year. The RACs provide advice and recommendations to BLM on land use planning and management of the public lands within their geographic areas.

DATES: All completed nomination forms and nomination letters should be received in the BLM office listed above no later than May 3, 2004.

ADDRESSES: Nominations for RACs should be sent to the appropriate BLM offices listed below:

| BLM RAC coordinator | Address | Telephone
Boise District RAC | MJ Byrne | 3948 Development Avenue, Boise, Idaho 83705 | 208-384-3393
Coeur d'Alene District RAC | Stephanie Snook | 1808 N. Third Street, Coeur d'Alene, Idaho 83814 | 208-769-5004
Idaho Falls District RAC | David Howell | 1405 Hollipark Drive, Idaho Falls, Idaho 83401 | 208-524-7559
Twin Falls District RAC | Sky Huffaker | 400 West F Street, Shoshone, Idaho 83352 | 208-732-7307

FOR FURTHER INFORMATION CONTACT: Jerry Rohnert, Idaho RAC Coordinator, 1387 South Vinnell Way, Boise Idaho 83709; 208-373-4017; or e-mail Jerry_Rohnert@blm.gov.

SUPPLEMENTARY INFORMATION: The FLPMA directs the Secretary of the Interior to involve the public in planning and issues related to management of lands administered by BLM. Section 309 of FLPMA directs the Secretary to select 10 to 15 member citizen-based advisory councils that are established and authorized consistent with the requirements of the FACA. As required by FACA, RAC membership must be balanced and representative of the various interests concerned with the management of the public lands. These include three categories:

Category One—Holders of federal grazing permits and representatives of energy and mineral development, timber industry, transportation or rights-of-way, off-highway vehicle use, and commercial recreation;

Category Two—Representatives of nationally or regionally recognized environmental organizations, archaeological and historic interests, dispersed recreation, and wild horse and burro groups;

Category Three—Holders of State, county or local elected office, employees of a State agency responsible for management of natural resources, academicians involved in natural sciences, representatives of Indian tribes, and the public-at-large.

Individuals may nominate themselves or others. Nominees must be residents of the State or States in which the RAC has jurisdiction. Nominees will be evaluated based on their education, training, and experience and their knowledge of the geographical area of the RAC. Nominees should have demonstrated a commitment to collaborative resource decision-making. All nominations must be accompanied by letters of reference from represented interests or organizations, a completed background information nomination form, as well as any other information that speaks to the nominee's qualifications.

Simultaneous with this notice, BLM will issue press releases providing additional information for submitting nominations, with specifics about the number and categories of member positions available for each Idaho BLM RAC. Public nominations will be considered until May 3, 2004.

Dated: March 4, 2004.
Susan Giannettino,
Acting Idaho State Director.

[FR Doc. 04-6296 Filed 3-17-04; 11:59 am]

BILLING CODE 4310-GG-P